DEPARTMENT OF THE TREASURY

Internal Revenue Service

Open Meeting of the Taxpayer Advocacy Panel Volunteer Income Tax Assistance Issue Committee

AGENCY: Internal Revenue Service (IRS) Treasury.

ACTION: Notice of meeting.

SUMMARY: An open meeting of the Taxpayer Advocacy Panel Earned Income Tax Credit Issue Committee will be conducted. The Taxpayer Advocacy Panel is soliciting public comments, ideas and suggestions on improving customer service at the Internal Revenue Service.

DATES: The meeting will be Friday, May 8, 2009 and Saturday, May 9, 2009.

FOR FURTHER INFORMATION CONTACT: Marisa Knispel at 1-888-912-1227 or 718 488-3557.

SUPPLEMENTARY INFORMATION: Notice is hereby given pursuant to Section 10(a)(2) of the Federal Advisory Committee Act, 5 U.S.C. App. (1988) that an open meeting of the Taxpayer Advocacy Panel Earned Income Tax Credit Issue Committee will be held Friday, May 8, 2009 from 8:30 a.m. to 4:30 p.m. and Saturday, May 9, 2009 from 8:30 a.m. to 12 p.m. Eastern Time in Atlanta, GA. The public is invited to make oral comments or submit written statements for consideration. Due to limited conference lines, notification of intent to participate must be made with Marisa Knispel. For more information please contact Ms. Jenkins at 1-888-912-1227 or 718-488-3557, or write TAP Office, 10 MetroTech Center, 625 Fulton Street, Brooklyn, NY 11201, or contact us at the Web site: http://www.improveirs.org.

The agenda will include various IRS issues.

Dated: March 17, 2009.
Shawn F. Collins,
Acting Director, Taxpayer Advocacy Panel.

[FR Doc. E9-6358 Filed 3-23-09; 8:45 am]

BILLING CODE 4830-01-P